DEPARTMENT OF DEFENSE

Department of the Army

Proposed Collection; Comment Request

AGENCY: Department of the Army, DoD.

ACTION: Notice.

SUMMARY: In compliance with section 3506(c)(2)(A) of the Paperwork Reduction Act of 1995, the Department of the Army announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on responents, including through the use of automated collection techniques or other forms of information technology.

DATES: Consideration will be given to all comments received by May 6, 2002.

ADDRESSES: Written comments and recommendations on the proposed information collection should be sent to the USACE, Directorate of Civil Works, Institute for Water Resources, 7701 Telegraph Road/Casey Building, Alexandria, Virgina 22315-3868. ATTN: CEIWR-MD (Stuart Davis). Consideration will be given to all comments received within 60 days of the date of publication of this notice.

FOR FURTHER INFORMATION CONTACT: To request more information on this proposed information collection or to obtain a copy of the proposal and associated collection instruments, please write to the above address, or call Department of the Army Reports Clearance Officer at (703) 692-1451.

Title, Associated Form, and OMB Number: Corps of Engineers Civil Works Questionnaires—Generic Clearance, OMB Control 0710-0001.

Needs and Uses: Information from the questionnaire items for the collection of planning data is needed to formulate and evaluate alternative water resources development plans in accordance with the Principles and Guidelines for Water Resources Council, to determine the effectiveness and evaluate the impacts of Corps project, and in the case of flood damage mitigation, to obtain information on flood damages incurred, whether or not a project is being considered or exists.

Affected Public: Individual or households.

Annual Burden Hours: 17,583.

Number of Respondents: 213,750.

Responses Per Respondent: 1.

Average Burden Per Response: 5 minutes.

Frequency: On occasion.

SUPPLEMENTARY INFORMATION: Executive Order 12862, dated September 11, 1993, “Setting Customer Service Standards,” requires that Federal agencies monitor public satisfaction with the quality of services that they provide. All survey questionnaires are adminstered either by face-to-face, mail, or telephone methods. Public surveys are used to gather data for planning and operating Corps projects and facilities. Survey responses have been used to determine the economically efficient flood and navigation plans, public preferences for projects alternatives, and customer satisfaction with existing facilities and services.

Luz D. Ortiz,
Army Federal Register Liaison Officer.

[FR Doc. 02-5251 Filed 3-5-02; 8:45 am]

BILLING CODE 3710-08-M